DEPARTMENT OF AGRICULTURE

National Institute of Food and Agriculture

Notice of Intent To Extend and Revise a Previously Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection, entitled Organizational Information.

DATES: Written comments on this notice must be received by February 4, 2025 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: Organizational Information.

OMB Control Number: 0524-0026.

Expiration Date of Current Approval: 3/31/2025.

Type of Request: Notice of intent to extend for three years and revise a previously approved information collection.

Abstract: NIFA has primary responsibility for providing connection between the Federal and State components of a broad-based, national agricultural research, extension, and education system. Focused on national issues, its purpose is to represent the Secretary of Agriculture and carry out the intent of Congress by administering capacity and grant funds appropriated for agricultural research, extension, and education. Before awards can be made, certain information is required from applicants to effectively assess the potential recipient's capacity to manage Federal funds.

The Organizational Information Form enables NIFA to determine that the applicants recommended for awards will be responsible recipients of Federal funds.

The information requested from the applicant pertains to the organizational and financial management of the potential grantee. This form and the attached applicant documents provide NIFA with information such as the legal name of the organization; certification that the organization has the legal authority to accept Federal funding; identification and signatures of the organization's key officials; the organization's policies for employee compensation and benefits; evidence of equipment insurance; the organization's policies on subcontracting with other organizations; evidence of the financial condition of the organization; and certification that the organization is not delinquent on Federal taxes. NIFA considers all this information prior to award, to determine the grantee is both managerially and fiscally responsible. This information is submitted to NIFA on a one-time basis and updated accordingly. If material changes occur within the organization, the grantee must submit revised information.

NIFA is proposing to update the form to ensure that it reflects the latest statutory and regulatory requirements, including updates to 2 CFR Part 200—Uniform Administrative Requirements, Cost Principles, and Audit Requirements for Federal Awards. NIFA also proposes to rename the form to the “Organizational Information Form,” and update the format of the form itself to improve accessibility.

Estimate of Burden: The total annual estimated burden for this information collection is 945 hours.

Estimated Number of Respondents: 150.

Annual responses: 150.

Average time to complete each response: 6.3 hours.

Burden hours: 945.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Washington, DC, this day of October 1, 2024.
Dionne Toombs,
Associate Director for Programs, National Institute of Food and Agriculture, U.S. Department of Agriculture.

[FR Doc. 2024-28692 Filed 12-5-24; 8:45 am]

BILLING CODE 3410-22-P